FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011877-001.

Title: Norasia/CMA-CGM Europe-USEC/USWC Slot Charter Agreement.

Parties: CMA CGM, S.A. and Norasia Container Lines Limited.

Filing Party: Walter H. Lion, Esq.; McLaughlin & Stern, LLP; 260 Madison Avenue; New York, NY 10016.

Synopsis: The agreement deletes the United States Pacific Coast from the scope of the agreement and modifies the terms of the slot purchase.

Agreement No.: 011689-008.

Title: Zim/CSCL Space Charter Agreement.

Parties: Zim Integrated Shipping Services, Ltd.; China Shipping Container Line Co., Ltd.; and China Shipping Container Lines (Hong Kong) Co., Ltd.

Filing Party: Brett M. Esber, Esq.; Blank Rome LLP; 600 New Hampshire Ave., NW.; Washington, DC 20037.

Synopsis: The amendment adds China Shipping Container Lines (Hong Kong) as a party to the agreement. The parties request expedited review.

By Order of the Federal Maritime Commission.
Dated: November 24, 2004.
Bryant L. VanBrakle,
Secretary.

[FR Doc. 04-26427 Filed 11-30-04; 8:45 am]

BILLING CODE 6730-01-P